NATIONAL SCIENCE FOUNDATION

Request for Information (RFI): Reducing Investigator's Administrative Workload for Federally Funded Research

Key Dates

Release Date: March 25, 2013.

Response Date: May 24, 2013.

Issued by

National Science Foundation (NSF).

Purpose

This RFI offers principal investigators with Federal research funding the opportunity to identify Federal agency and university requirements that contribute most to their administrative workload and to offer recommendations for reducing that workload. Members of the National Science Board's Task Force on Administrative Burdens do not wish to increase your administrative workload with this request and you may choose to answer only those questions that are most pertinent to you. Your responses will provide vital input so that we can implement agency-level changes and offer recommendations to reduce unnecessary and redundant administrative requirements.

Background

Over the past decade two Federal Demonstration Partnership (FDP) Faculty Workload Surveys (2005 and 2012) indicate that administrative burdens associated with Federal research funding are consuming roughly 42% of an awardee's available research time, a figure widely cited in numerous articles and reports. To help address these issues, the National Science Board (Board) recently created a Task Force on Administrative Burdens. The Task Force is charged with examining the burden imposed on Federally-supported researchers at U.S. colleges, universities, and non-profit institutions. Responses to this RFI will be considered as the Board develops recommendations to ensure investigators' administrative workload is at an appropriate level.

Request for Information

The Task Force is seeking a response to the questions below. In your response, please reference the question number to which you are responding.

Sources of Administrative Work and Recommendations for Reducing Work

1. What specific requirements associated with your Federally-funded grants require you personally to do the greatest amount of administrative work? Where possible, please indicate whether the origin of that administrative work is a requirement at your institution, a Federal requirement, or a requirement from another institution. What recommendations would you offer that might help to reduce the level of work?

2. Principal investigators responding to the FDP's 2012 Faculty Workload Survey identified the following sources of administrative work, in addition to human subject protection and animal care treated below, as particularly burdensome for Federal grantees:

Grant progress report submissions;

Finances (e.g. managing budget-to-actual expenses, equipment and supplies purchases, and other financial issues/requirements);

Personnel management, hiring, and employee evaluation, and visa issues;

Effort reporting;

Conflict of interest;

Responsible conduct of research;

Lab safety/security;

Data sharing; and,

Sub-contracts (e.g. overseeing: progress toward project goals and deadlines; budget expenditures, invoices, and other financial matters; and, compliance and safety/security issues).

If not addressed in question 1, for any of the areas listed, do you believe that the associated requirements significantly increase the amount of administrative work you personally need to perform? Where possible please indicate whether the source of the required administrative work is a requirement at your institution, a Federal requirement, or a requirement from another institution. What recommendations would you offer that might help to reduce the level of work?

3. Do you receive administrative support from your institution for Federal grants? If yes, for what specific preparation, reporting, and compliance requirements do you receive administrative support? Is the amount of support excellent, good, adequate, poor, or non-existent? Where does your administrative support come from within the institution (e.g. office of the vice president for research, office of sponsored programs, a department, a laboratory, others)? What additional administrative support would you like to receive from your institution?

Institutional Review Boards (IRB)/Institutional Animal Care and Use Committees (IACUC)

4. If you are conducting human or vertebrate animal research requiring IRB or IACUC approval, what requirements (e.g. preparing protocols for initial review, annual reviews and re-writes, completing revisions requested by reviewers, and satisfying training and other Federal requirements) create the most administrative work? Is the work completed primarily by you or others? Are there particular practices used by your university's IRB/IACUC process that contribute to or subtract from the administrative work you must perform to meet Federal and Institutional requirements? What recommendations would you offer that might help to reduce the level of work?

Proposals

5. Investigators responding to the FDP 2012 Faculty Workload Survey indicated that 15 percent of their research time associated with a Federal award is devoted to proposal preparation. Are there administrative tasks associated with proposal preparation that increase your personal administrative workload? Please provide specific examples. What recommendations would you offer Federal agencies for reducing the level of administrative work necessary to submit a grant proposal while maintaining the details needed to evaluate the merit and feasibility of the proposed research?

Agency Specific Requirements and Multiple Agencies

6. From which agencies do you receive Federal funding? In your opinion, have you observed outcomes related to data or information that you have provided at the request of Federal agencies? If you receive funding from multiple agencies do you believe that there are overlapping or redundant interagency requests or requirements that increase your administrative workload? How might these requirements be streamlined across Federal agencies?

7. If you receive funding from NSF, are there NSF-specific requirements that you believe create significant administrative work for you? What steps would you suggest NSF take to reduce the level of work necessary to comply with the requirement(s)?

Reform Efforts

8. The Office of Management of Budget (OMB) has recently proposed reforms to administrative requirements for Federal awards, including:

(a) Guidance that clarifies the circumstances under which institutions may charge administrative support as a direct cost under certain conditions, including where the support is integral to a project or activity, can be specifically allocated to it, is explicitly included in the budget, and is not also recovered as indirect costs.

(b) Reforms to effort reporting, including using employee payroll reports from institutional automated payroll systems to comply with effort reporting requirements.

What if any effect do you believe these proposed reforms would have on your administrative workload? Would you utilize direct charging if the guidance is finalized? To what extent would you utilize it (i.e., what % of funds)?

Professional/Institutional Information

The following information will allow us to assess the influence of institution size/administrative capacity, academic rank, and field of study on the level and type of administrative work reported but is not required.

9. What is your academic rank? What is your field of study? Please indicate which of the following best describes your institution:

Public research institution with medical school

Public research institution without medical school

Private research institution

Public master's institution

Private master's institution

Primarily undergraduate institution

Minority-serving institution

Non-profit/for profit institution

How to Submit a Response

All responses and should be submitted by email to: Administrative-Reform@nsf.gov.

Responses to this RFI will be accepted through May 24, 2013. You will not receive individualized feedback on any suggestions. Individual or aggregate responses may be referenced in a final report; however the Board will not attribute any comments by name. Email addresses will be anonymized and responses kept confidential consistent with our obligations to comply with a judicial or administrative subpoena, or a FOIA request pursuant to 5 U.S.C. 552. Please note that any personal information contained within the body of the email/response (i.e. signature lines) will be retained if not deleted by the sender. No basis for claims against the U.S. Government shall arise as a result of a response to this request for information or from the Government's use of such information. Any questions or inquiries should be sent to: Administrative-Reform-Inquiries@nsf.gov.

Ann Bushmiller,
Senior Legal Counsel, National Science Board.

[FR Doc. 2013-07313 Filed 3-28-13; 8:45 am]

BILLING CODE 7555-01-P